SECURITIES AND EXCHANGE COMMISSION

[Release No. 34-45288; File No. SR-Phlx-2001-107]

Self-Regulatory Organizations; Order Approving Proposed Rule Change by the Philadelphia Stock Exchange, Inc., Relating to an Extension of the Interim Intermarket Linkage Program

January 16, 2002.

On November 29, 2001, the Philadelphia Stock Exchange, Inc. (“Phlx” or “Exchange”) filed with the Securities and Exchange Commission (“SEC” or “Commission”), pursuant to section 19(b)(1) of the Securities Exchange Act of 1934 (“Act”),¹ and Rule 19b-4 thereunder,² a proposed rule change seeking to extend the pilot program authorizing implementation of “interim linkages” with the other options exchanges until April 1, 2002.³

¹ 15 U.S.C. 78s(b)(1).

² 17 CFR 240-19b-4.

³ On May 16, 2001, the Commission issued a notice of filing and immediate effectiveness of a pilot program submitted by the Phlx authorizing the implementation of an interim linkage. See Securities Exchange Act Release No. 44311, 66 FR 28768 (May 24, 2001).

The proposed rule change was published for comment in the Federal Register on December 12, 2001.⁴ The Commission received no comments on the proposal.

⁴ See Securities Exchange Act Release No. 45132 (December 5, 2001), 66 FR 64330.

The Commission finds that the proposed rule change is consistent with the requirements of the Act and the rules and regulations thereunder applicable to a national securities exchange ⁵ and, in particular, the requirements of section 6 of the Act ⁶ and the rules and regulations thereunder. The Commission finds specifically that the proposed rule change should enable investors effecting transactions on the Phlx to obtain better prices displayed on the other exchanges and therefore is consistent with the objects of section 6(b)(5) under the Act ⁷ which requires that exchange rules be designed to promote just and equitable principles of trade, to remove impediments to and perfect the mechanism for a free and open market and a national market system, and, in general, to protect investors and the public interest.

⁵ In approving this proposed rule change, the Commission notes that it has considered the proposed rule's impact on efficiency, competition, and capital formation. 15 U.S.C. 78c(f).

⁶ 16 U.S.C. 78f.

⁷ 15 U.S.C. 78f(b)(5).

It Is Therefore Ordered, pursuant to section 19(b)(2) of the Act,⁸ that the proposed rule change (SR-PHLX-2001-107) be, and hereby is approved.

⁸ 15 U.S.C. 78s(b)(2).

For the Commission by the Division of Market Regulation, pursuant to delegated authority.⁹
⁹ 17 CFR 200.30-3(a)(12).
Margaret H. McFarland,
Deputy Secretary.

[FR Doc. 02-1701 Filed 1-23-02; 8:45 am]

BILLING CODE 8010-01-M